DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Colorado:
Denver (FEMA Docket No.: B-2278). | City and County of Denver (22-08-0408P). | The Honorable Michael B. Hancock, Mayor, City and County of Denver, 1437 North Bannock Street, Room 350, Denver, CO 80202. | Department of Transportation and Infrastructure, 201 West Colfax Avenue, Department 608, Denver, CO 80202. | Jan. 13, 2023 | 080046
Jefferson (FEMA Docket No.: B-2291). | City of Arvada (21-08-1154P). | The Honorable Marc Williams, Mayor, City of Arvada, 8101 Ralston Road, Arvada, CO 80002. | Engineering Division, 8101 Ralston Road, Arvada, CO 80002. | Jan. 20, 2023 | 085072
Jefferson (FEMA Docket No.: B-2291). | Unincorporated areas of Jefferson County (21-08-1154P). | The Honorable Andy Kerr, Chair, Jefferson County Board of Commissioners, 100 Jefferson County Parkway, Suite 5550, Golden, CO 80419. | Jefferson County Planning and Zoning Division, 100 Jefferson County Parkway, Suite 3550, Golden, CO 80419. | Jan. 20, 2023 | 080087
Larimer (FEMA Docket No.: B-2291). | Town of Estes Park (22-08-0205P). | The Honorable Wendy Koenig-Schuett, Mayor, Town of Estes Park, P.O. Box 1200, Estes Park, CO 80517. | Town Hall, 170 MacGregor Avenue, Estes Park, CO 80517. | Feb. 2, 2023 | 080193
Larimer (FEMA Docket No.: B-2291). | Unincorporated areas of Larimer County (22-08-0205P). | The Honorable Kristin Stephens, Chair, Larimer County Board of Commissioners, 200 West Oak Street, Suite 2200, Fort Collins, CO 80521. | Larimer County Engineering Department, 200 West Oak Street, Suite 3000, Fort Collins, CO 80521. | Feb. 2, 2023 | 080101
Weld (FEMA Docket No.: B-2291). | Town of Windsor (22-08-0286P). | The Honorable Paul Rennemeyer, Mayor, Town of Windsor, 301 Walnut Street, Windsor, CO 80550. | Town Hall, 301 Walnut Street, Windsor, CO 80550. | Feb. 6, 2023 | 080264
Weld (FEMA Docket No.: B-2291). | Unincorporated areas of Weld County (22-08-0286P). | Scott James, Chair, Weld County Board of Commissioners, 1150 O Street, Greeley, CO 80632. | Weld County Administration Building, 1150 O Street, Greeley, CO 80632. | Feb. 6, 2023 | 080266
Florida:
Collier (FEMA Docket No.: B-2291). | City of Marco Island (22-04-4408P). | Mike McNees, City of Marco Island, Manager, 50 Bald Eagle Drive, Marco Island, FL 34145. | Building Services Department, 50 Bald Eagle Drive, Marco Island, FL 34145. | Jan. 27, 2023 | 120426
Manatee (FEMA Docket No.: B-2284). | Unincorporated areas of Manatee County (22-04-0770P). | Scott Hopes, Manatee County Administrator, 1112 Manatee Avenue West, Bradenton, FL 34205. | Manatee County Development, Services Department, 1112 Manatee Avenue West, Bradenton, FL 34205. | Jan. 25, 2023 | 120153
Monroe (FEMA Docket No.: B-2284). | Unincorporated areas of Monroe County (22-04-4636P). | The Honorable David Rice, Mayor, Monroe County Board of Commissioners, 9400 Overseas Highway, Suite 210 Marathon, FL 33050. | Monroe County Building Department, 2798 Overseas Highway, Suite 300, Marathon, FL 33050. | Feb. 2, 2023 | 125129
Polk (FEMA Docket No.: B-2291). | Unincorporated areas of Polk County (22-04-1142P). | Bill Beasley, Polk County Manager, P.O. Box 9005, Bartow, FL 33831. | Polk County Land Development Division, 330 West Church Street, Bartow, FL 33830. | Jan. 26, 2023 | 120261
Volusia (FEMA Docket No.: B-2284). | City of Deland (22-04-2131P). | Michael F. Pleus, Manager, City of Deland, 120 South Florida Avenue, Deland, FL 32720. | Public Services Department, 1102 South Garfield Avenue, Deland, FL 32724. | Jan. 13, 2023 | 120307
Volusia (FEMA Docket No.: B-2284). | Unincorporated areas of Volusia County (22-04-2131P). | George Recktenwald, Volusia County Manager, 123 West Indiana Avenue, Deland, FL 32730. | Volusia County, Thomas C. Kelly Administration Center, 123 West Indiana Avenue, Deland, FL 32730. | Jan. 13, 2023 | 125155
Idaho:
Gooding (FEMA Docket No.: B-2284). | City of Gooding (21-10-1380P). | The Honorable Diane Houser, Mayor, City of Gooding, 308 5th Avenue West, Gooding, ID 83330. | Public Works Department, 308 5th Avenue West, Gooding, ID 83330. | Jan. 20, 2023 | 160064
Gooding (FEMA Docket No.: B-2284). | Unincorporated areas of Gooding County (21-10-1380P). | The Honorable Mark Bolduc, Chair, Gooding County Board of Commissioners, P.O. Box 417, Gooding, ID 83330 | Gooding County Planning and Zoning Department, 714 Main Street, Gooding, ID 83330. | Jan. 20, 2023 | 160227
New Mexico: Bernalillo (FEMA Docket No.: B-2284). | City of Albuquerque (22-06-0212P). | The Honorable Timothy M. Keller, Mayor, City of Albuquerque, P.O. Box 1293, Albuquerque, NM 87103. | Planning Department, 600 2nd Street Northwest, Albuquerque, NM 87102. | Jan. 18, 2023 | 350002
North Carolina:
Franklin (FEMA Docket No.: B-2299). | Unincorporated areas of Franklin County (22-04-3395P) | The Honorable Michael S. Schriver, Chair, Franklin County Board of Commissioners, 113 Market Street, Louisburg, NC 27549. | Franklin County Planning and Inspections Department, 215 East Nash Street, Louisburg, NC 27549. | Feb. 10, 2023 | 370377
Wake (FEMA Docket No.: B-2291). | City of Raleigh (21-04-0780P). | The Honorable Mary-Ann Baldwin, Mayor, City of Raleigh, 222 West Hargett Street, Raleigh, NC 27602. | Engineering Services Department, 1 Exchange Plaza, Suite 706, Raleigh, NC 27601. | Jan. 5, 2023 | 370243
North Dakota:
Walsh (FEMA Docket No.: B-2284). | City of Grafton (21-08-0925P). | The Honorable Chris West, Mayor, City of Grafton, P.O. Box 578, Grafton, ND 58237. | City Hall, 5 East 4th Street, Grafton, ND 58237. | Jan. 19, 2023 | 380137
Walsh (FEMA Docket No.: B-2284). | Township of Grafton (21-08-0925P). | The Honorable Lawrence Burianek, Chair, Township of Grafton, 117 Westwood Drive, Grafton, ND 58237. | Walsh County Administrative Building, 638 Cooper Avenue, Suite 2, Grafton, ND 58237. | Jan. 19, 2023 | 380302
Walsh (FEMA Docket No.: B-2284). | Township of Oakwood (21-08-0925P). | The Honorable Mark Gourde, Chair, Township of Oakwood, 15387 County Road 11, Grafton, ND 58237. | Walsh County Administrative Building, 638 Cooper Avenue, Suite 2, Grafton, ND 58237. | Jan. 19, 2023 | 380303
Pennsylvania: Lehigh (FEMA Docket No.: B-2291). | Township of Upper Macungie (22-03-0156P). | The Honorable James M. Brunell, Chair, Township of Upper Macungie, Board of Supervisors, 8330 Schantz Road, Breinigsville, PA 18031. | Township Hall, 8330 Schantz Road, Breinigsville, PA 18031. | Feb. 3, 2023 | 421044
South Carolina: Darlington (FEMA Docket No.: B-2284). | Unincorporated areas of Darlington County (22-04-2654P). | Marion C. Stewart, III, Darlington County Administrator, 1 Public Square, Room 210, Darlington, SC 29532. | Darlington County Planning Department, 1 Public Square, Darlington, SC 29532. | Jan. 12, 2023 | 450060
Tennessee: Hamilton (FEMA Docket No.: B-2284). | Unincorporated areas of Hamilton County (21-04-5804P). | The Honorable Weston Wamp, Mayor, Hamilton County, 625 Georgia Avenue, Chattanooga, TN 37402. | Hamilton County Engineering Department, Development Resource Center, 1250 Market Street, Suite 3046, Chattanooga, TN 37402. | Jan. 25, 2023 | 470071
Texas:
Bexar (FEMA Docket No.: B-2291). | City of San Antonio (21-06-2098P). | The Honorable Ron Nirenberg, Mayor, City of San Antonio, P.O. Box 839966, San Antonio, TX 78283. | Transportation and Capital Improvements, Storm Water Division Department, 1901 South Alamo Street, 2nd Floor, San Antonio, TX 78204. | Jan. 23, 2023 | 480045
Bexar (FEMA Docket No.: B-2299). | City of San Antonio (21-06-2378P). | The Honorable Ron Nirenberg, Mayor, City of San Antonio, P.O. Box 839966, San Antonio, TX 78283. | Transportation and Capital Improvements, Storm Water Division Department, 1901 South Alamo Street, 2nd Floor San Antonio, TX 78204. | Feb. 6, 2023 | 480045
Bexar (FEMA Docket No.: B-2299). | City of San Antonio (21-06-3278P). | The Honorable Ron Nirenberg, Mayor, City of San Antonio, P.O. Box 839966, San Antonio, TX 78283. | Transportation and Capital Improvements, Storm Water Division, Department, 1901 South Alamo Street, 2nd Floor, San Antonio, TX 78204. | Feb. 6, 2023 | 480045
Bexar (FEMA Docket No.: B-2291). | Unincorporated areas of Bexar County (21-06-2098P). | The Honorable Nelson W. Wolff, Bexar County Judge, 101 West Nueva Street, 10th Floor, San Antonio, TX 78205. | Bexar County, Public Works Department, 1948 Probandt Street, San Antonio, TX 78283. | Jan. 23, 2023 | 480035
Denton (FEMA Docket No.: B-2284). | City of Fort Worth (22-06-0030P). | The Honorable Mattie, Parker Mayor, City of Fort Worth, 200 Texas Street, Fort Worth, TX 76102. | Department of Transportation and Public Works, 200 Texas Street, Fort Worth, TX 76102. | Jan. 23, 2023 | 480596
Denton (FEMA Docket No.: B-2284). | Unincorporated areas of Denton County (22-06-0030P). | The Honorable Andy Eads, Denton County Judge, 1 Courthouse Drive, Suite 3100 Denton, TX 76208. | Denton County Public Works Department, Engineering Department 1505 East McKinney Street, Suite 175, Denton, TX 76209. | Jan. 23, 2023 | 480774
Erath (FEMA Docket No.: B-2284). | City of Stephenville (22-06-0024P). | Jason King, Manager, City of Stephenville, 298 West Washington Street, Stephenville, TX 76401. | Department of Public Works, 298 West Washington Street, Stephenville, TX 76401. | Jan. 17, 2023 | 480220
Harris (FEMA Docket No.: B-2291). | City of Houston (22-06-0051P). | The Honorable Sylvester Turner, Mayor, City of Houston, P.O. Box 1562, Houston, TX 77251. | Floodplain Management Department, 1002 Washington Avenue, Houston, TX 77002. | Jan. 30, 2023 | 480296
Harris (FEMA Docket No.: B-2291). | Unincorporated areas of Harris County (22-06-1000P). | The Honorable Lina Hidalgo, Harris County Judge, 1001 Preston Street, Suite 911, Houston, TX 77092. | Harris County Engineering Department, Permit Division, 10555 Northwest Freeway, Suite 120, Houston, TX 77092. | Jan. 30, 2023 | 480287
Tarrant (FEMA Docket No.: B-2284). | City of Benbrook (22-06-0792P). | The Honorable Jason Ward, Mayor, City of Benbrook, 911 Winscott Road, Benbrook, TX 76126. | Department of Public Works, 8401 Laguna Palms Way, Benbrook, TX 76126. | Feb. 2, 2023 | 480586
Tarrant (FEMA Docket No.: B-2278). | City of Fort Worth (22-06-2031P). | The Honorable Mattie Parker, Mayor, City of Fort Worth, 200 Texas Street, Fort Worth, TX 76102. | Transportation and Public Works Department, 200 Texas Street, Fort Worth, TX 76102. | Jan. 12, 2023 | 480596
Tarrant (FEMA Docket No.: B-2278). | City of Grapevine (21-06-3397P). | The Honorable William D. Tate, Mayor, City of Grapevine, P.O. Box 95104, Grapevine, TX 76051. | City Hall, 200 South Main Street, Grapevine, TX 76051. | Jan. 13, 2023 | 480598
Williamson (FEMA Docket No.: B-2291). | City of Hutto (21-06-3276P). | The Honorable Mike Snyder, Mayor, City of Hutto, 500 West Live Oak Street, Hutto, TX 78634. | Department of Public Works, 210 U.S. Highway 79 East, Suite 203, Hutto, TX 78634. | Feb. 2, 2023 | 481047
Williamson (FEMA Docket No.: B-2291). | Unincorporated areas of Williamson County (21-06-3276P). | The Honorable Bill Gravell, Jr., Williamson County Judge, 710 South Main Street, Suite 101, Georgetown, TX 78626. | Williamson County Central Maintenance Facility, 3151 Southeast Inner Loop, Georgetown, TX 78216. | Feb. 2, 2023 | 481079
Utah:
Davis (FEMA Docket No.: B-2291). | City of Bountiful (22-08-0009P). | The Honorable Kendalyn Harris, Mayor, City of Bountiful, 795 South Main Street, Bountiful, UT 84010. | Engineering Department, 795 South Main Street, Bountiful, UT 84010. | Feb. 2, 2023 | 490039
Davis (FEMA Docket No.: B-2291). | City of Centerville (22-08-0009P). | The Honorable Clark Wilkinson, Mayor, City of Centerville, 250 North Main Street, Centerville, UT 84014. | Public Works Department, 655 North 1250 West, Centerville, UT 84014. | Feb. 2, 2023 | 490040
Wisconsin: Dane (FEMA Docket No.: B-2291). | City of Madison (22-05-1179P). | The Honorable Satya Rhodes-Conway, Mayor, City of Madison, 210 Martin Luther King Jr. Boulevard, Room 403, Madison, WI 53703. | Municipal Building, 215 Martin Luther King Jr. Boulevard, Room 017, Madison, WI 53703. | Feb. 1, 2023 | 550083
Wyoming: Sweetwater (FEMA Docket No.: B-2291). | City of Rock Springs (22-08-0270P). | The Honorable Tim Kaumo, Mayor, City of Rock Springs, 212 D Street, Rock Springs, WY 82901. | Department of Planning and Zoning, 212 D Street, Rock Springs, WY 82901. | Jan. 19, 2023 | 560051

[FR Doc. 2023-04172 Filed 2-28-23; 8:45 am]

BILLING CODE 9110-12-P